INTERNATIONAL TRADE COMMISSION

[Investigation No. 337-TA-658]

In the Matter of Certain Video Game Machines and Related Three-Dimensional Pointing Devices; Notice of Commission Decision Not To Review the Administrative Law Judge's Initial Determination Granting Complainant's Motion To Amend the Complaint and Notice of Investigation

AGENCY: U.S. International Trade Commission.

ACTION: Notice.

SUMMARY: Notice is hereby given that the U.S. International Trade Commission has determined not to review the presiding administrative law judge's initial determination (“ID”) (Order No. 12) granting complainant's motion to amend the complaint and notice of investigation and terminate certain patent claims from the above-captioned investigation.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 23, 2008, based on a complaint filed by Hillcrest Laboratories, Inc. of Rockville, Maryland (“Hillcrest”), alleging violations of section 337 of the Tariff Act of 1930 (19 U.S.C. 1337) in the importation into the United States, the sale for importation, and the sale within the United States after importation of certain video game machines and related three-dimensional pointing devices by reason of infringement of certain claims of United States Patent Nos. 7,139,983 (“the '983 patent”); 7,158,118; 7,262,760; and 7,414,611. 73 FR 54854 (September 23, 2008). The complaint named Nintendo Co., Ltd. of Japan and Nintendo of America, Inc. of Redmond, WA (collectively, “Nintendo”) as respondents.

On January 21, 2009, complainant Hillcrest moved to amend the complaint and notice of investigation to add claims 3, 13, and 20 of the '983 patent (the “newly asserted claims”) to the claims asserted against Nintendo and terminate claims 5, 6, 15, 16, 22, and 23 of the '983 patent (the “withdrawn claims”) from this investigation. Neither the Commission Investigative Attorney nor Nintendo opposed Hillcrest's motion.

On February 5, 2009, the administrative law judge issued the subject ID granting Hillcrest's motion to amend the complaint and notice of investigation to add the newly asserted claims and terminate the withdrawn claims from the investigation. No petitions for review of the subject ID were filed.

The authority for the Commission's determination is contained in section 337 of the Tariff Act of 1930, as amended (19 U.S.C. 1337), and in section 210.42 of the Commission's Rules of Practice and Procedure (19 CFR 210.42).

By order of the Commission.
Issued: February 23, 2009.
Marilyn R. Abbott,
Secretary to the Commission.

[FR Doc. E9-4161 Filed 2-26-09; 8:45 am]

BILLING CODE 7020-02-P